NATIONAL AERONAUTICS AND SPACE ADMINISTRATION

[Notice: (22-029)]

NASA Advisory Council; Science Committee; Meeting

AGENCY: National Aeronautics and Space Administration.

ACTION: Notice of meeting.

SUMMARY: In accordance with the Federal Advisory Committee Act, as amended, the National Aeronautics and Space Administration (NASA) announces a meeting of the Science Committee of the NASA Advisory Council (NAC). This Committee reports to the NAC. The meeting will be held for the purpose of soliciting, from the scientific community and other persons, scientific and technical information relevant to program planning.

DATES: Tuesday, May 3, 2022, 8:00 a.m.-5:00 p.m.; and Wednesday, May 4, 2022, 8:00 a.m.-12:00 p.m., Eastern Time.

ADDRESSES: Meeting will be virtual only. See dial-in and Webex information below under SUPPLEMENTARY INFORMATION.

FOR FURTHER INFORMATION CONTACT: Ms. KarShelia Kinard, Science Mission Directorate, NASA Headquarters, Washington, DC 20546, (202) 358-2355 or karshelia.kinard@nasa.gov.

SUPPLEMENTARY INFORMATION: As noted above, this meeting is virtual and will take place telephonically and via Webex. Any interested person must use a touch-tone phone to participate in this meeting. The Webex connectivity information for each day is provided below. For audio, when you join the Webex event, you may use your computer or provide your phone number to receive a call back, otherwise, call the U.S. toll conference number listed for each day.

On Tuesday, May 3, the event address for attendees is: https://nasaenterprise.webex.com/nasaenterprise/j.php?MTID=m0afaa930581f437b424591c939afbe52. The event number is 2761 111 3129 and the event password is MCkiXzM@385 (62549961 from phones). If needed, the U.S. toll conference number is 1-415-527-5035 or 1-929-251-9612 and access code is 2761 111 3129.

On Wednesday, May 4, the event address for attendees is: https://nasaenterprise.webex.com/nasaenterprise/j.php?MTID=m3da7d2f15271487a78503d5d51db7879. The event number is 2760 394 0075 and the event password is paPvE8PA@54 (72783872 from phones). If needed, the U.S. toll conference number is 1-415-527-5035 or 1-929-251-9612 and access code is 2760 394 0075.

The agenda for the meeting includes the following topics:

—Science Mission Directorate (SMD) Missions, Programs and Activities.

It is imperative that the meeting be held on these dates due to the scheduling priorities of the key participants.

Patricia Rausch,
Advisory Committee Management Officer, National Aeronautics and Space Administration.

[FR Doc. 2022-07758 Filed 4-11-22; 8:45 am]

BILLING CODE 7510-13-P